ENVIRONMENTAL PROTECTION AGENCY

[FRL-9284-01-OMS]

Senior Executive Service Performance Review Board; Membership

AGENCY: U.S. Environmental Protection Agency (EPA).

ACTION: Notice.

SUMMARY: Notice is hereby given of the membership of the U.S. Environmental Protection Agency (EPA) Performance Review Board for 2021.

FOR FURTHER INFORMATION CONTACT: Lizabeth Engebretson, Deputy Director, Policy, Planning & Training Division, 3601M, Office of Human Resources, Office of Mission Support, U.S. Environmental Protection Agency, 1200 Pennsylvania Avenue NW, Washington, DC 20460, (202) 564-0804.

SUPPLEMENTARY INFORMATION: Section 4314(c)(1) through (5) of Title 5, U.S.C., requires each agency to establish in accordance with regulations prescribed by the Office of Personnel Management, one or more SES performance review boards. This board shall review and evaluate the initial appraisal of a senior executive's performance by the supervisor, along with any recommendations to the appointment authority relative to the performance of the senior executive. Members of the 2021 EPA Performance Review Board are:

Barry Breen, Principal Deputy Assistant Administrator, Office of Land and Emergency Management

Tom Brennan, Director, Science Advisory Board, Office of the Administrator

Katrina Cherry, Director, Office of Management and International Services, Office of International and Tribal Affairs

Kerry Drake, Mission Support Division Director, Region 9

Lizabeth Engebretson, (Ex-Officio) Deputy Director, Policy, Planning and Training Division, Office of Human Resources, Office of Mission Support

Diana Esher, Deputy Regional Administrator, Region 3

Arron Helm, Director, Office of Administration and Resources Management—Research Triangle Park, Office of Mission Support

Vanessa “Kay” Holt, Deputy Director for Management, Center for Public Health & Environmental Assessment, Office of Research and Development

Juan Carlos Hunt, Director, Office of Civil Rights, Office of the Administrator

Samantha Jones, Associate Director for Risk Assessment, Center for Public Health and Environmental Assessment, Office of Research and Development

Mara J. Kamen, (Ex-Officio) Director, Office of Human Resources, Office of Mission Support

James McDonald, Mission Support Division Director, Region 6

Karen McGuire, Director, Enforcement & Compliance Assurance Division, Region1

Jennifer McLain, Director, Office of Ground Water and Drinking Water, Office of Water

Tanya Mottley, Director, National Program Chemicals Division, Office of Chemical Safety and Pollution Prevention

Mary Ross, Director, Office of Science Advisor, Policy & Engagement, Office of Research and Development

Kenneth Schefski, Regional Counsel—Region 8, Office of Enforcement and Compliance Assurance

Gautam Srinivasan, Associate General Counsel, Air and Radiation Law Office, Office of General Counsel

Carol Terris, Associate Chief Financial Officer, Office of the Chief Financial Officer

Richard “Chet” Wayland, Director of the Air Quality Assessment Division, Office of Air Quality Planning and Standards, Office of Air and Radiation

Mara J. Kamen,
EPA Deputy Chief Human Capital Officer, and Director, Office of Human Resources, Office of Mission Support.

[FR Doc. 2021-27449 Filed 12-17-21; 8:45 am]

BILLING CODE 6560-50-P